DEPARTMENT OF COMMERCE

National Oceanic and Atmospheric Administration

[I.D. 102805C]

Mid-Atlantic Fishery Management Council (MAFMC); Meetings

AGENCY: National Marine Fisheries Service (NMFS), National Oceanic and Atmospheric Administration (NOAA), Commerce.

ACTION: Notice of public meetings.

SUMMARY: The Mid-Atlantic Fishery Management Council's (Council) Summer Flounder Monitoring Committee, Scup Monitoring Committee, and Black Sea Bass Monitoring Committee, The Joint Mid-Atlantic Fishery Management Council (MAFMC) and the Atlantic States Marine Fisheries Commission's (ASMFC) Summer Flounder, Scup, and Black Sea Bass Industry Advisory Panels will hold public meetings.

DATES: Tuesday, November 22, 2005 (see SUPPLEMENTARY INFORMATION for meeting times).

ADDRESSES: Sheraton Four Points, 4101 Island Avenue, Philadelphia, PA 19153; telephone 1-215-492-0400.

Council Address: Mid-Atlantic Fishery Management Council, Room 2115, 300 S. New Street, Dover, DE 19904.

FOR FURTHER INFORMATION CONTACT: Daniel T. Furlong, Executive Director, Mid-Atlantic Fishery Management Council; telephone: 302-674-2331, ext. 19.

SUPPLEMENTARY INFORMATION:

Meeting Times and Agenda

9 a.m.—The Mid-Atlantic Fishery Management Council's (Council) Summer Flounder Monitoring Committee, Scup Monitoring Committee, and Black Sea Bass Monitoring Committee.

1:30 p.m.—The Joint Mid-Atlantic Fishery Management Council (MAFMC) and the Atlantic States Marine Fisheries Commission's (ASMFC) Summer Flounder, Scup, and Black Sea Bass Industry Advisory Panels.

The purpose of these meetings is to discuss the proposed 2006 recreational management measures for summer flounder, scup, and black sea bass.

Although other non-emergency issues not contained in this agenda may come before the Council for discussion, those issues may not be the subject of formal action during these meetings. Council action will be restricted to those issues specifically listed in this notice and any issues arising after publication of this notice that require emergency action under section 305(c) of the Magnuson-Stevens Act, provided the public has been notified of the Council's intent to take action to address the emergency.

Special Accommodations

These meetings are physically accessible to people with disabilities. Requests for sign language interpretation or other auxiliary aids should be directed to Jan Saunders (302-674-2331 ext: 18) at the Council Office at least five days prior to the meeting date.

Dated: October 31, 2005.
Tracey L. Thompson,
Acting Director, Office of Sustainable Fisheries, National Marine Fisheries Service.

[FR Doc. E5-6089 Filed 11-2-05; 8:45 am]

BILLING CODE 3510-22-S